ENVIRONMENTAL PROTECTION AGENCY

[FRL-8721-1]

Science Advisory Board Staff Office Notification of a Meeting of the Science Advisory Board

AGENCY: Environmental Protection Agency (EPA).

ACTION: Notice.

SUMMARY: The EPA Science Advisory Board (SAB) Staff Office announces a public face-to-face meeting of the chartered SAB to: discuss future environmental science issues within the context of EPA's research directions and priorities, and conduct quality reviews of up to three Draft SAB reports.

DATES: The meeting dates are Monday, October 27, 2008, from 8:30 a.m. to 5 p.m. through Tuesday, October 28, 2008, from 8:30 a.m. to 2:30 p.m. (Eastern Time).

ADDRESSES: The meeting will be held at the Mayflower Hotel, 1127 Connecticut Avenue, NW., Washington, DC; phone (202) 347-4430.

FOR FURTHER INFORMATION CONTACT: Members of the public who wish to obtain further information about this meeting may contact Mr. Thomas O. Miller, Designated Federal Officer (DFO), by mail at EPA SAB Staff Office, (1400F), U.S. EPA, 1200 Pennsylvania Avenue, NW., Washington, DC 20460; by telephone at (202) 343-9982; by fax at (202) 233-0643; or by e-mail at miller.tom@epa.gov. The SAB mailing address is U.S. EPA, Science Advisory Board (1400F), 1200 Pennsylvania Avenue, NW., Washington, DC 20460. General information about the SAB, as well as any updates concerning the meeting announced in this notice, may be found on the SAB Web site at http://www.epa.gov/sab.

SUPPLEMENTARY INFORMATION: The SAB was established by 42 U.S.C. 4365 to provide independent scientific and technical advice, consultation, and recommendations to the EPA Administrator on the technical basis for Agency positions and regulations. The SAB is a Federal advisory committee chartered under the Federal Advisory Committee Act (FACA), as amended, 5 U.S.C., App. The SAB will comply with the provisions of FACA and all appropriate SAB Staff Office procedural policies.

Background: 1. Future Science and Research. On October 27, 2008, the EPA Science Advisory Board will hold a one day meeting entitled Looking to the Future. During this meeting, the SAB will hear from, and interact with, outside experts on: (i) The environmental implications of biofuels, and (ii) the implications for environmental health sciences and human health risk assessment of epigenomics research. Exploration of biofuels and epigenomics research is intended to provide the chartered SAB with an inter-disciplinary introduction to these topics, and to stimulate their thinking generally about future advice to strengthen EPA's response to emerging science issues, especially how EPA might implement inter-disciplinary approaches that incorporate significant emerging research.

In 2007, the chartered SAB committed to provide ongoing advice on strategic research directions for EPA and how they can be implemented. This activity complements the SAB's traditional review of EPA's annual research budget. The first day's seminar-style meeting will be followed by a half-day advisory meeting on October 28, when the chartered SAB will discuss possible implications of the October 27 meeting for ongoing SAB advice on EPA research directions.

2. Review of Draft SAB Reports: (a) Quality Review of the Draft SAB Advisory on Aquatic Life Criteria. EPA's Office of Water asked the Science Advisory Board for advice on the scientific merits of a white paper that identifies and addresses technical issues in deriving aquatic life criteria for emerging contaminants such as pharmaceuticals and personal care products exhibiting endocrine disrupting activity or other toxic mechanisms. The EPA SAB Ecological Processes and Effects Committee (EPEC) augmented with additional experts conducted this review. Additional information on this review can be obtained on the EPA SAB Web site at: http://yosemite.epa.gov/sab/sabproduct.nsf/fedrgstr_activites/MOA%20criteria%20methodology.

(b) Quality Review of the Draft Advisory on the Drinking Water Contaminant Candidate List 3. EPA's Office of Water asked the SAB to review EPA's draft Drinking Water Contaminant Candidate List 3 (CCL 3). The 1996 Safe Drinking Water Act Amendments (SDWA) require EPA to (1) publish every five years a list of currently unregulated contaminants in drinking water that may pose risks and (2) make determinations on whether or not to regulate at least five contaminants from that list on a staggered five year cycle. The list must be published after consultation with the scientific community, including the SAB, after notice and opportunity for public comment, and after consideration of the occurrence database established under section 1445(g) of the SDWA. The unregulated contaminants considered for the list must include, but are not limited to, substances referred to in section 101(14) of the Comprehensive Environmental Response, Compensation, and Liability Act of 1980 (CERCLA), and substances registered under the Federal Insecticide, Fungicide, and Rodenticide Act (FIFRA). Additional information on this review can be obtained on the EPA SAB Web site at: http://yosemite.epa.gov/sab/sabproduct.nsf/fedrgstr_activites/CCL3.

(c) Quality Review of the Draft SAB Advisory on Acrylamide. EPA's National Center for Environmental Assessment, within the Office of Research and Development, has been updating the human health hazard and dose-response assessment for Acrylamide. EPA's Office of Research and Development requested that the Science Advisory Board review its draft assessment entitled “Toxicological Review of Acrylamide,” a polymer used primarily in waste water treatment, paper and pulp processing, and mineral processing. The EPA SAB established the Acrylamide Review Panel to conduct this review. Additional information on this review can be obtained on the EPA SAB Web site at http://yosemite.epa.gov/sab/sabproduct.nsf/fedrgstr_activites/Acrylamide-IRIS-Asst.

Availability of Meeting Materials: Materials in support of this meeting will be placed on the SAB Web site at http://www.epa.gov/sab in advance of this meeting.

Procedures for Providing Public Input: Interested members of the public may submit relevant written or oral information for the SAB to consider. Oral Statements: The total time available for public comments for topics to be discussed at this October 28, 2008 meeting of the SAB will be one hour. Fifteen minutes will be allocated for each of the quality reviews to be conducted and for the general discussion session on strategic research directions. Individuals or groups requesting an oral presentation at a public meeting on October 28, 2008 will be limited to three minutes per speaker. Each person making an oral statement should consider providing written comments as well as their oral statement so that the points presented orally can be expanded upon in writing. Interested parties should contact Mr. Miller, DFO, at the contact information provided above, by October 17, 2008, to be placed on the public speaker list for the October 28, 2008 meeting. Written Statements: Written statements should be received in the SAB Staff Office by October 20, 2008, so that the information may be made available to the SAB for their consideration prior to this meeting. Written statements should be supplied to the DFO via e-mail to miller.tom@epa.gov (acceptable file format: Adobe Acrobat PDF, WordPerfect, MS Word, MS PowerPoint, or Rich Text files in IBM-PC/Windows 98/2000/XP format).

Meeting Accommodations: For information on access or services for individuals with disabilities, please contact Mr. Thomas Miller at (202) 343-9982, or via e-mail at miller.tom@epa.gov. To request accommodation of a disability, please contact Mr. Miller, preferably at least 10 days prior to the meeting, to give EPA as much time as possible to process your request.

Dated: September 18, 2008.
Anthony F. Maciorowski,
Deputy Director, EPA Science Advisory Board Staff Office.

[FR Doc. E8-22539 Filed 9-24-08; 8:45 am]

BILLING CODE 6560-50-P